ENVIRONMENTAL PROTECTION AGENCY

40 CFR Part 52

[WI117-01-7347b; FRL-7637-1]

Approval and Promulgation of Implementation Plans; Wisconsin

AGENCY: Environmental Protection Agency.

ACTION: Proposed rule.

SUMMARY: The Environmental Protection Agency (EPA) is proposing to approve a revision to the Wisconsin regulations as they pertain to Northern Engraving Corporation (NEC) facilities in Galesville and West Salem, Wisconsin as requested by the State of Wisconsin on June 27, 2003. This State Implementation Plan (SIP) revision makes changes to Wisconsin air pollution control rules federally enforceable. The rule revisions modify the emission limits adopted by the state that are part of the current Wisconsin SIP. The revised rules, specifically portions of the Environmental Cooperative Agreement with NEC, supercede portions of the rules in the Wisconsin SIP.

In the “Rules and Regulations” section of this Federal Register, EPA is approving the State's request as a direct final rule without prior proposal because EPA views this action as noncontroversial and anticipates no adverse comments. The rationale for approval is set forth in the direct final rule. If EPA receives no written adverse comments, EPA will take no further action on this proposed rule. If EPA receives written adverse comment, we will publish a timely withdrawal of the direct final rule in the Federal Register and inform the public that the rule will not take effect. In that event, EPA will address all relevant public comments in a subsequent final rule based on this proposed rule. In either event, EPA will not institute a second comment period on this action. Any parties interested in commenting must do so at this time.

DATES: Comments on this action must be received by November 4, 2004.

ADDRESSES: Written comments should be mailed to: Pamela Blakley, Chief, Air Permits Section, Air Programs Branch (AR-18J), United States Environmental Protection Agency Region 5, 77 West Jackson Boulevard, Chicago, Illinois 60604. Blakley.Pamela@epa.gov.

Comments may also be submitted electronically or through hand delivery/courier. Commenters are advised to review the information and follow the instructions for submitting comments as described in Part (I)(B) of the Supplementary Information section of the companion direct final rule published in the rules section of this Federal Register.

A copy of the state's request is available for inspection at the above address.

FOR FURTHER INFORMATION CONTACT: Constantine Blathras at (312) 886-0671, Blathras.Constantine@epa.gov.

SUPPLEMENTARY INFORMATION:

I. What action is EPA taking today?

II. Where can I find more information about this proposal and corresponding direct final rule?

I. What Action Is EPA Taking Today?

The EPA is proposing to approve a revision to the Wisconsin regulations as they pertain to NEC's Galesville and West Salem, Wisconsin facilities as requested by the State of Wisconsin on June 27, 2003. The SIP revision makes changes to Wisconsin air pollution control rules federally enforceable. These rule changes were made at the request of NEC and the State of Wisconsin and they apply to the operation of the NEC Galesville and West Salem facilities. The rule revisions modify the emission limits adopted by the State of Wisconsin, which are part of the current Wisconsin SIP. The rule revisions and portions of the Environmental Cooperative Agreement supercede portions of rules in the Wisconsin SIP requiring a source-specific SIP revision.

II. Where Can I Find More Information About This Proposal and Corresponding Direct Final Rule?

For additional information see the direct final rule published in the Rules and Regulations section of this Federal Register.

List of Subjects in 40 CFR Part 52

Environmental protection, Air pollution control, Incorporation by reference, Intergovernmental relations, Volatile organic compounds.

Authority: 42 U.S.C. 7401 et seq.

Dated: March 1, 2004.
Jo Lynn Traub,
Acting Regional Administrator, Region 5.

[FR Doc. 04-22251 Filed 10-4-04; 8:45 am]

BILLING CODE 6560-50-P